DEPARTMENT OF HOMELAND SECURITY

Coast Guard

33 CFR Part 117

[Docket No. USCG-2012-1052]

Drawbridge Operation Regulation; Elizabeth River, Eastern Branch, Norfolk, VA

AGENCY: Coast Guard, DHS.

ACTION: Notice of temporary deviation from regulations.

SUMMARY: The Coast Guard has issued a temporary deviation from the operating schedule that governs the operation of the Norfolk Southern #V2.8 Railroad Bridge across the Elizabeth River (Eastern Branch), mile 2.7, at Norfolk, VA. This deviation is necessary to facilitate replacing bearings on the Norfolk Southern #V2.8 Railroad Bridge. This temporary deviation will allow the drawbridge to remain in the closed-to-navigation position on specific dates and times.

DATES: This deviation is effective from 8 a.m. on December 18, 2012, until to 8 a.m. on December 21, 2012.

ADDRESSES: Documents indicated in this preamble as being available in the docket are part of docket USCG-2012-1052 and are available online at www.regulations.gov, inserting USCG-2012-1052 in the “Search” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this temporary deviation, call or email Mr. Jim Rousseau, Bridge Administration Branch, Fifth Coast Guard District; telephone (757) 398-6557, email James.L.Rousseau2@uscg.mil. If you have any questions on reviewing the docket, call Renee V. Wright, Program Manager, Docket Operations, 202-366-9826.

SUPPLEMENTARY INFORMATION: The Norfolk Southern Corporation, owner and operator of the swing span Norfolk Southern #V2.8 Railroad Bridge, mile 2.7, at Norfolk, VA, has requested a temporary deviation from the current operating regulations set out in 33 CFR 117.1007(a), to accommodate bearing replacement.

Under the normal operating schedule the bridge shall be left in the open position at all times and will only be closed for the passage of trains and to perform periodic maintenance. The Norfolk Southern #V2.8 Bridge, at mile 2.7, across the Elizabeth River (Eastern Branch) in Norfolk, VA, has a vertical clearance in the closed position to vessels of 6 feet above mean high water.

To facilitate bearing replacement, the drawbridge will be maintained in the closed-to-navigation position from 8 a.m. on December 18, 2012, to 8 a.m. on December 21, 2013. The bridge normally operates in the open position with several vessels transiting a week. Coordination with waterway users has been completed.

The Coast Guard will inform the users of the waterway through our Local and Broadcast Notices to Mariners of the opening restrictions of the draw span to minimize transiting delays caused by this temporary deviation. There are no alternate routes available. Mariners able to pass under the bridge in the closed position may do so at any time and the bridge is not able to open for emergencies. Mariners are advised to proceed with caution.

In accordance with 33 CFR 117.35(e), the drawbridge must return to its regular operating schedule immediately at the end of the effective period of this temporary deviation. This deviation from the operating regulations is authorized under 33 CFR 117.35.

Dated: December 5, 2012.
Waverly W. Gregory, Jr.,
Bridge Program Manager, Fifth Coast Guard District.

[FR Doc. 2012-30286 Filed 12-14-12; 8:45 am]

BILLING CODE 9110-04-P